DEPARTMENT OF TRANSPORTATION

Federal Aviation Administration

14 CFR Part 39

[Docket No. FAA-2013-0416; Directorate Identifier 2012-NM-144-AD]

RIN 2120-AA64

Airworthiness Directives; Airbus Airplanes

AGENCY: Federal Aviation Administration (FAA), DOT.

ACTION: Notice of proposed rulemaking (NPRM).

SUMMARY: We propose to supersede an existing airworthiness directive (AD) that applies to certain Airbus Model A318-111 and -112 airplanes, Model A319 series airplanes, Model A320 series airplanes, and Model A321 series airplanes. The existing AD currently requires repetitive inspections of the 80VU rack lower lateral fittings for damage; repetitive inspections of the 80VU rack lower central support for cracking; and corrective action if necessary. That existing AD also specifies optional terminating action for the repetitive inspections. Since we issued that AD, we have received reports of worn lower lateral fittings of the 80VU rack. This proposed AD would reduce the inspection compliance time, add an inspection of the upper fittings and shelves of the 80VU rack, and add airplanes to the applicability. We are proposing this AD to detect and correct damage or cracking of the 80VU fittings and supports, which could lead to possible disconnection of the cable harnesses to one or more computers and, if occurring during a critical phase of flight, could result in reduced control of the airplane.

DATES: We must receive comments on this proposed AD by June 28, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227 1405; fax (425) 227-1149.

SUPPLEMENTARY INFORMATION:

Comments Invited

We invite you to send any written relevant data, views, or arguments about this proposed AD. Send your comments to an address listed under the ADDRESSES section. Include “Docket No. FAA-2013-0416; Directorate Identifier 2012-NM-144-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On November 15, 2010, we issued AD 2010-24-07, Amendment 39-16526 (75 FR 75878, December 7, 2010). That AD required actions intended to address an unsafe condition on the products listed above.

Since we issued AD 2010-24-07, Amendment 39-16526 (75 FR 75878, December 7, 2010), the European Aviation Safety Agency (EASA), which is the Technical Agent for the Member States of the European Community, has issued EASA Airworthiness Directive 2012-0134, dated July 18, 2012 (referred to after this as the Mandatory Continuing Airworthiness Information, or “the MCAI”), to correct an unsafe condition for the specified products. The MCAI states:

Damage to the lower lateral fittings of the 80VU rack, typically elongated holes, migrated bushes, and/or missing bolts have been reported on in-service aeroplanes. The 80VU rack contains computers for flight controls, communication and radio-navigation. In addition, damage to the lower central support fitting (including cracking) has been reported.

Failure of the 80VU fittings, in combination with a high load factor or strong vibration, could lead to failure of the rack structure and/or computers or rupture/disconnection of the cable harnesses to one or more computers located in the 80VU rack. Even though the computer functions are duplicated across other racks, multiple system failures or (partial) disconnection of systems, if occurring during a critical phase of flight, could result in reduced control of the aeroplane.

To address this potential unsafe condition, EASA issued AD 2007-0276 to require repetitive inspections of the lower lateral 80VU fittings and the lower central 80VU support and, depending on findings, the accomplishment of corrective actions. [EASA] AD 2007-0276 was revised to introduce a reinforced lower central support as an optional terminating action for the repetitive inspections.

Since issuance of EASA AD 2007-0276R1 [which corresponds to FAA AD 2010-24-07, Amendment 39-16526 (75 FR 75878, December 7, 2010)], and prompted by in-service experience, the previous inspection programme has been reassessed. New conditions of inspection for a new finding on the lower central fitting attachment (crack in the lower of the lateral flanges), and a new visual inspection of the upper fittings and shelves of the 80VU are introduced by this inspection programme. In addition, the replacement of a cracked lateral fitting or central support with a lateral fitting or central support having the same part number is no longer preferable as corrective action. Instead, the installation of the reinforced lower central support is now defined as optional terminating action for the repetitive inspections required by this [EASA] AD.

For the reasons described above, this [EASA] AD supersedes EASA AD 2007-0276R1 and requires implementation of an amended inspection programme with a reduced inspection threshold.

This proposed AD would add airplanes to the applicability including Model A318-121 and -122 airplanes. Existing AD 2010-24-07, Amendment 39-16526 (75 FR 75878, December 7, 2010), exempted airplanes on which Airbus Modification 34804 has been embodied in production or on which Airbus Service Bulletins A320-25-1557 and A320-53-1215 have been done in service. This AD exempts those airplanes from the restated paragraphs of AD 2010-24-07, which are paragraphs (g) and (i) of this proposed AD. You may obtain further information by examining the MCAI in the AD docket.

Compliance times for the corrective actions specified in paragraph (m) of this proposed AD range from before further flight to within 4,500 flight cycles, depending on the condition found during the inspection required by paragraph (l) of this proposed AD.

Relevant Service Information

Airbus has issued Mandatory Service Bulletin A320-25A1555, including Appendix 01, Revision 03, dated February 28, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

This proposed AD differs from the MCAI and/or service information as follows:

• Although the MCAI or service information allows further flight after cracks are found during compliance with the required action, this AD requires that you do a corrective action before further flight.

• Although Airbus Mandatory Service Bulletin A320-25A1555, including Appendix 01, Revision 03, dated February 28, 2012, specifies to contact the manufacturer for instructions to repair certain conditions when certain kits are available, this proposed AD would require contacting the Manager, International Branch, ANM-116, Transport Airplane Directorate, FAA, for instructions when those kits are available and doing the repairs.

Costs of Compliance

Based on the service information, we estimate that this proposed AD would affect about 755 products of U.S. registry.

The actions that are required by AD 2010-24-07, Amendment 39-16526 (75 FR 75878, December 7, 2010), and retained in this proposed AD, take about 82 work-hours per product, at an average labor rate of $85 per work hour. Required parts cost about $2,592 per product. Based on these figures, the estimated cost of the currently required actions is $9,562 per product.

We estimate that it would take about 5 work-hours per product to comply with the new basic requirements of this proposed AD. The average labor rate is $85 per work-hour. Where the service information lists parts costs that are covered under warranty, we have assumed that there will be no charge for these parts. As we do not control warranty coverage for affected parties, some parties may incur costs higher than estimated here. Based on these figures, we estimate the cost of the proposed AD on U.S. operators to be $320,875, or $425 per product.

In addition, we estimate that any necessary follow-on actions would take about 189 work-hours and require parts costing $7,047, for a cost of $23,112 per product. Where the service information lists required parts costs that are covered under warranty, we have assumed that there will be no charge for these parts. As we do not control warranty coverage for affected parties, some parties may incur costs higher than estimated here. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-24-07, Amendment 39-16526 (75 FR 75878, December 7, 2010), and adding the following new AD:

Airbus: Docket No. FAA-2013-0416; Directorate Identifier 2012-NM-144-AD.

(a) Comments Due Date

We must receive comments by June 28, 2013.

(b) Affected ADs

This AD supersedes AD 2010-24-07, Amendment 39-16526 (75 FR 75878, December 7, 2010).

(c) Applicability

This AD applies to Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all manufacturer serial numbers.

(d) Subject

Air Transport Association (ATA) of America Code 25, Equipment/Furnishings, and Code 53, Fuselage.

(e) Reason

This AD was prompted by reports of worn lower lateral fittings of the 80VU rack. We are issuing this AD to detect and correct damage or cracking of the 80VU fittings and supports, which could lead to possible disconnection of the cable harnesses to one or more computers, and if occurring during a critical phase of flight, could result in reduced control of the airplane.

(f) Compliance

You are responsible for having the actions required by this AD performed within the compliance times specified, unless the actions have already been done.

(g) Retained Repetitive Inspections of the 80VU Rack Lower Lateral Fittings

This paragraph restates the requirements of paragraph (g) of AD 2010-24-07, Amendment 39-16526 (75 FR 75878, December 7, 2010). Except for Model A318-121 and -122 airplanes, and except for airplanes on which Airbus Modification 34804 has been embodied in production or on which Airbus Service Bulletins A320-25-1557 and A320-53-1215 have been done in service, prior to the accumulation of 24,000 total flight cycles, or within 500 flight cycles after January 11, 2011 (the effective date of AD 2010-24-07), whichever occurs later: Do a special detailed inspection of the 80VU rack lower lateral fittings for damage (e.g., broken fitting, missing bolts, migrated bushings, material burr, or rack in contact with the fitting) of the 80VU rack lower lateral fittings, in accordance with the Accomplishment Instructions of Airbus Mandatory Service Bulletin A320-25A1555, Revision 02, dated November 5, 2008. Repeat the inspection thereafter at the interval specified in paragraph (g)(1) or (g)(2) of this AD, as applicable. Modifying the 80VU lower lateral fittings, in accordance with the Accomplishment Instructions of Airbus Service Bulletin A320-25-1557, Revision 02, dated November 5, 2008, terminates the inspection requirements of this paragraph. Doing the initial inspection specified in paragraph (l) of this AD terminates the requirements of this paragraph.

(1) For airplanes on which the 80VU rack lower lateral fittings have not been replaced in accordance with the Accomplishment Instructions of Airbus Mandatory Service Bulletin A320-25A1555, Revision 02, dated November 5, 2008: Repeat the inspection thereafter at intervals not to exceed 4,500 flight cycles.

(2) For airplanes on which the 80VU rack lower lateral fittings have been replaced in accordance with the Accomplishment Instructions of Airbus Mandatory Service Bulletin A320-25A1555, Revision 02, dated November 5, 2008: Do the next inspection within 24,000 flight cycles after doing the replacement and repeat the inspection thereafter at intervals not to exceed 4,500 flight cycles.

(h) Retained Corrective Actions for Paragraph (h) of This AD With New Corrective Actions

This paragraph restates the requirements of paragraph (h) of AD 2010-24-07, Amendment 39-16526 (75 FR 75878, December 7, 2010), with new corrective actions. If any damage is found during any inspection required by paragraph (g) of this AD, do all applicable corrective actions (inspection and/or repair), in accordance with the Accomplishment Instructions and timeframes in Airbus Mandatory Service Bulletin A320-25A1555, Revision 02, dated November 5, 2008; or in accordance with and at the time specified in paragraph (q) of this AD. As of the effective date of this AD, if any damage is found, do all applicable corrective actions in accordance with and at the times specified in paragraph (q) of this AD.

(i) Retained Repetitive Inspections of the 80VU Rack Lower Central Support

This paragraph restates the requirements of paragraph (i) of AD 2010-24-07, Amendment 39-16526 (75 FR 75878, December 7, 2010). Except for airplanes on which Airbus Modification 34804 has been embodied in production or on which Airbus Service Bulletins A320-25-1557 and A320-53-1215 have been done in service, prior to the accumulation of 24,000 total flight cycles, or within 500 flight cycles January 11, 2011 (the effective date of AD 2010-24-07), whichever occurs later: Do a special detailed inspection of the 80VU rack lower central support for cracking, in accordance with the Accomplishment Instructions of Airbus Mandatory Service Bulletin A320-25A1555, Revision 02, dated November 5, 2008. Repeat the inspection thereafter at the interval specified in paragraph (i)(1) or (i)(2) of this AD, as applicable. Replacing the pyramid fitting on the 80VU rack with a new, reinforced fitting, in accordance with the Accomplishment Instructions of Airbus Service Bulletin A320-53-1215, dated November 5, 2008, terminates the inspection requirements of this paragraph. Doing the initial inspection specified in paragraph (n) of this AD terminates the requirements of this paragraph.

(1) For airplanes on which the 80VU rack lower central support has not been repaired or replaced using Airbus Mandatory Service Bulletin A320-25A1555 or Airbus Service Bulletin A320-25-1557: Repeat the inspection thereafter at the interval specified in paragraph (i)(1)(i) or (i)(1)(ii) of this AD, as applicable.

(i) For airplanes on which the lower central support has accumulated 30,000 total flight cycles or more: At intervals not to exceed 500 flight cycles.

(ii) For airplanes on which the lower central support has accumulated fewer than 30,000 total flight cycles: At intervals not to exceed 4,500 flight cycles, without exceeding 30,750 total flight cycles on the support for the first repetitive inspection.

(2) For airplanes on which the 80VU rack lower central support has been repaired or replaced using Airbus Mandatory Service Bulletin A320-25A1555 or Airbus Service Bulletin A320-25-1557: Do the next inspection within 24,000 flight cycles after the repair or replacement and thereafter repeat the inspection at the interval specified in paragraph (i)(1)(i) or (i)(1)(ii) of this AD, as applicable.

(j) Retained Corrective Actions for Paragraph (i) of This AD

This paragraph restates the requirements of paragraph (j) of AD 2010-24-07, Amendment 39-16526 (75 FR 75878, December 7, 2010). If any crack is found during any inspection required by paragraph (i) of this AD: Before further flight, replace the pyramid fitting on the 80VU rack with a new, reinforced fitting, in accordance with the Accomplishment Instructions of Airbus Service Bulletin A320-53-1215, dated November 5, 2008. Doing this replacement terminates the inspection requirements of paragraph (i) of this AD.

(k) Retained Optional Terminating Action

This paragraph restates the requirements of paragraph (k) of AD 2010-24-07, Amendment 39-16526 (75 FR 75878, December 7, 2010). Doing the actions specified in paragraphs (k)(1) and (k)(2) of this AD terminates the repetitive inspections required by this AD.

(1) Replacing the pyramid fitting on the 80VU rack with a new, reinforced fitting, in accordance with the Accomplishment Instructions of Airbus Service Bulletin A320-53-1215, dated November 5, 2008.

(2) Modifying the 80VU lower lateral fittings, in accordance with Airbus Service Bulletin A320-25-1557, Revision 02, dated November 5, 2008.

(l) New Requirement of This AD: Repetitive Inspection of Lower Lateral Support Fittings

Except for airplanes on which Airbus Modification 34804 has been embodied in production, or on which the 80VU rack lower lateral support has been modified, as specified in the Accomplishment Instructions of Airbus Mandatory Service Bulletin A320-25-1557, dated June 14, 2007; Revision 01, dated February 7, 2008; or Revision 02, dated November 5, 2008: At the latest of the applicable times specified in paragraphs (l)(1) through (l)(4) of this AD, do a special detailed (borescope) inspection of the 80VU rack lower lateral fittings for damage (e.g., broken fitting, missing bolts, migrated bushings, material burr, or rack in contact with the fitting) of the 80VU rack lower lateral fittings, in accordance with the Accomplishment Instructions of Airbus Mandatory Service Bulletin A320-25A1555, Revision 03, dated February 28, 2012. Repeat the inspection thereafter at intervals not to exceed 500 flight cycles until the terminating action specified in paragraph (k) of this AD is done. Doing the initial inspection specified in this paragraph terminates the requirements of paragraph (g) of this AD.

(1) Before the accumulation of 20,000 total flight cycles from the airplane first flight, or within 750 flight cycles after the effective date of this AD, whichever occurs later, without exceeding 24,000 total flight cycles.

(2) Within 20,000 flight cycles after the most recent repair or replacement of the 80VU rack lower lateral fittings was done, as specified in the Accomplishment Instructions of Airbus Mandatory Service Bulletin A320-25A1555, dated June 24, 2007; Revision 01, dated February 18, 2008; or Revision 02, dated November 5, 2008.

(3) Within 500 flight cycles after the effective date of this AD, without exceeding 4,500 flight cycles after the most recent inspection of the 80VU rack lower lateral fittings was done, as specified in the Accomplishment Instructions of Airbus Mandatory Service Bulletin A320-25A1555, dated June 14, 2007; Revision 01, dated February 18, 2008; or Revision 02, dated November 5, 2008.

(4) Within 500 flight cycles after the effective date of this AD.

(m) New Requirement of This AD: Corrective Action for Damage of Lower Lateral Support Fittings

If any damage is found during any inspection required by paragraph (l) of this AD: At the applicable time given in paragraph E. (2), “Accomplishment Timescale,” in Airbus Mandatory Service Bulletin A320-25A1555, Revision 03, dated February 28, 2012, accomplish the applicable corrective actions, in accordance with the Accomplishment Instructions of Airbus Mandatory Service Bulletin A320-25A1555, Revision 03, dated February 28, 2012; except where this service information specifies to contact Airbus for further instructions, before further flight contact either the Manager, International Branch, ANM-116, Transport Airplane Directorate, FAA; or the European Aviation Safety Agency (EASA) (or its delegated agent) for instructions; and do those instructions.

(n) New Requirement of This AD: Repetitive Inspection on Lower Central Support

Except for airplanes on which Airbus Modification 34804 has been embodied in production, or on which the 80VU rack lower central support has been modified, as specified in the Accomplishment Instructions of Airbus Service Bulletin A320-53-1215, dated November 5, 2008: At the latest of the applicable times specified in paragraphs (n)(1) through (n)(6) of this AD, do a special detailed (borescope) inspection of the 80VU rack lower central support for cracking, in accordance with the Accomplishment Instructions of Airbus Mandatory Service Bulletin A320-25A1555, Revision 03, dated February 28, 2012. Repeat the inspection thereafter at intervals not to exceed 500 flight cycles until the terminating action specified in paragraph (k) of this AD is done. Doing the initial inspection specified in this paragraph terminates the requirements of paragraph (i) of this AD.

(1) Before the accumulation of 20,000 total flight cycles from the airplane first flight, or within 750 flight cycles after the effective date of this AD, whichever occurs later, without exceeding 24,000 total flight cycles.

(2) Within 20,000 flight cycles after the most recent repair or replacement of the 80VU rack lower central support was done, as specified in the Accomplishment Instructions of Airbus Mandatory Service Bulletin A320-25A1555, dated June 14, 2007; Revision 01, dated February 18, 2008; or Revision 02, dated November 5, 2008.

(3) Within 20,000 flight cycles after modification of the 80VU rack lower central support was done, as specified in the Accomplishment Instructions of Airbus Service Bulletin A320-25-1557, dated June 14, 2007; or Revision 01, dated February 07, 2008.

(4) For airplanes on which, as of the effective date of this AD, the 80VU rack lower central support has accumulated fewer than 30,000 total flight cycles: Within 500 flight cycles after the effective date of this AD, without exceeding 4,500 flight cycles after the most recent inspection of the 80VU rack lower central support was done, as specified in the Accomplishment Instructions of Airbus Mandatory Service Bulletin A320-25A1555, dated June 24, 2007; Revision 01, dated February 18, 2008; or Revision 02, dated November 5, 2008.

(5) For airplanes on which, as of the effective date of this AD, the 80VU rack lower central support has accumulated 30,000 total flight cycles or more: Within 500 flight cycles after the most recent inspection of the 80VU rack lower central support was done, in accordance with the Accomplishment Instructions of Airbus Mandatory Service Bulletin A320-25A1555, dated June 14, 2007; Revision 01, dated February 18, 2008; or Revision 02, dated November 5, 2008.

(6) Within 500 flight cycles after the effective date of this AD.

(o) New Requirement of this AD: Corrective Action for Damage to Lower Central Support

If any cracking is found during any inspection required by paragraph (n) of this AD: Before further flight do the actions in paragraph (o)(1) or (o)(2) of this AD.

(1) If kits 25A1555A01 thru A05 are available, contact the Manager, International Branch, ANM-116, Transport Airplane Directorate, FAA for instructions, and do the repair.

(2) Do the actions specified in paragraph (k)(1) and (k)(2) of this AD.

(p) New Requirement of this AD: Repetitive Inspection of Upper Fittings and Shelves

Concurrently with each special detailed inspection required by paragraphs (m) and (o) of this AD: Do a general visual inspection for damage (cracking or deformation) of the upper fittings and shelves of the 80VU rack, in accordance with the Accomplishment Instructions of Airbus Mandatory Service Bulletin A320-25A1555, Revision 03, dated February 28, 2012. If any damage is found: Before further flight, repair the damage using a method approved by either the Manager, International Branch, ANM-116, Transport Airplane Directorate, FAA; or EASA (or its delegated agent).

(q) New Requirement of This AD: Corrective Action for Previous Findings

For airplanes that have been inspected before the effective date of this AD as specified in Airbus Service Bulletin A320-25A1555, dated June 14, 2007; Airbus Mandatory Service Bulletin A320-25A1555, Revision 01, dated February 18, 2008; or Airbus Mandatory Service Bulletin A320-25A1555, Revision 02, dated November 5, 2008; and on which damage of the fittings was found, except for airplanes specified in paragraph (q)(1) or (q)(2) of this AD: At the applicable time given in paragraph E.(2)., “Accomplishment Timescale,” of Airbus Mandatory Service Bulletin A320-25A1555, Revision 03, dated February 28, 2012, accomplish the applicable corrective actions, in accordance with the Accomplishment Instructions of Airbus Mandatory Service Bulletin A320-25A1555, Revision 03, dated February 28, 2012, except where this service information specifies to contact Airbus for further instructions, before further flight, contact either the Manager, International Branch, ANM-116, Transport Airplane Directorate, FAA; or EASA (or its delegated agent) for instructions; and follow those instructions. Accomplishing the actions required by this paragraph terminates the requirements of paragraph (h) of this AD.

(1) Airplanes on which Airbus Modification 34804 has been embodied in production.

(2) Airplanes on which the terminating action specified in paragraph (k) of this AD has been done.

(r) Credit for Previous Actions

This paragraph restates the credit given in paragraph (l) of AD 2010-24-07, Amendment 39-16526 (75 FR 75878, December 7, 2010).

(1) This paragraph provides credit for actions required by paragraphs (g), (h), and (i) of this AD, if those actions were performed before January 11, 2011 (the effective date of AD 2010-24-07, Amendment 39-16526 (75 FR 75878, December 7, 2010)), using the service bulletins specified in paragraph (r)(1)(i)or (r)(1)(ii) of this AD.

(i) Airbus Mandatory Service Bulletin A320-25A1555, Revision 01, dated February 18, 2008.

(ii) Airbus Service Bulletin A320-25A1555, dated June 14, 2007.

(2) This paragraph provides credit for actions required by paragraphs (g) and (k)(2) of this AD, if those actions were performed before January 11, 2011 (the effective date of AD 2010-24-07, Amendment 39-16526 (75 FR 75878, December 7, 2010)), using the service bulletins specified in paragraph (r)(2)(i) or (r)(1)(ii) of this AD.

(i) Airbus Service Bulletin A320-25-1557, dated June 14, 2007.

(ii) Airbus Service Bulletin A320-25-1557, Revision 01, dated February 7, 2008.

(s) Other FAA AD Provisions

The following provisions also apply to this AD:

(1) Alternative Methods of Compliance (AMOCs): The Manager, ANM-116, International Branch, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227 1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2010-24-07, Amendment 39-16526 (75 FR 75878, December 7, 2010), are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(t) Related Information

(1) Refer to Mandatory Continuing Airworthiness Information EASA Airworthiness Directive 2012-0134, dated July 18, 2012, and the service information listed in paragraphs (t)(1)(i) through (t)(1)(iv) of this AD; for related information.

(i) Airbus Service Bulletin A320-53-1215, dated November 05, 2008.

(ii) Airbus Mandatory Service Bulletin A320-25A1555, Revision 02, dated November 5, 2008.

(iii) Airbus Mandatory Service Bulletin A320-25A1555, Revision 03, dated February 28, 2012.

(iv) Airbus Service Bulletin A320-25-1557, Revision 02, dated November 5, 2008.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Issued in Renton, Washington, on May 6, 2013.
Ali Bahrami,
Manager, Transport Airplane Directorate, Aircraft Certification Service.

[FR Doc. 2013-11381 Filed 5-13-13; 8:45 am]

BILLING CODE 4910-13-P